DEPARTMENT OF EDUCATION

[CFDA Nos. 84.007, 84.032, 84.033, 84.038, 84.063, 84.069, and 84.268]

Student Assistance General Provisions, Federal Supplemental Educational Opportunity Grant, Federal Family Education Loan, Federal Work-Study, Federal Perkins Loan, Federal Pell Grant, Leveraging Educational Assistance Partnership, and William D. Ford Federal Direct Loan Programs

ACTION: Notice of deadline dates for receipt of applications, reports, and other records for the 2004-2005 award year.

SUMMARY: The Secretary announces deadline dates for the receipt of documents and other information from institutions and applicants for the Federal student aid programs authorized under Title IV of the Higher Education Act of 1965, as amended, for the 2004-2005 award year. The Federal student aid programs include the Federal Perkins Loan, Federal Work-Study, Federal Supplemental Educational Opportunity Grant, Federal Family Education Loan, William D. Ford Federal Direct Loan, Federal Pell Grant, and Leveraging Educational Assistance Partnership programs.

These programs, administered by the U.S. Department of Education (Department), provide financial assistance to students attending eligible postsecondary educational institutions to help them pay their educational costs.

DATES: Deadline and Submission Dates: See Tables A and B at the end of this notice.

Table A—Deadline Dates for Application Processing and Receipt of Student Aid Reports (SARs) or Institutional Student Information Records (ISIRs) by Institutions

Table A provides deadline dates for application processing, including corrections and submission of signatures, submission of verification documents and, for purposes of the Federal Pell Grant Program, receipt by institutions of SARs or ISIRs. We simplified the deadline dates in Table A by using only three dates for the 2004-2005 award year. The single date for the submission of a Free Application for Federal Student Aid (FAFSA) is June 30, 2005, regardless of the method that the applicant uses to submit the FAFSA. September 15, 2005 is the deadline date for the submission and receipt of corrections, changes of addresses or schools, or requests for a duplicate SAR. September 23, 2005 is the deadline date for the submission and receipt of all other documents and materials that are specified in Table A.

Table B—Federal Pell Grant Program Submission Dates for Disbursement Information by Institutions

Table B provides the earliest submission and deadline dates for institutions to submit Federal Pell Grant disbursement records to the Department's Common Origination and Disbursement (COD) System.

In general, an institution must submit Federal Pell Grant disbursement records no later than 30 days after making a Federal Pell Grant disbursement or becoming aware of the need to adjust a student's previously reported Federal Pell Grant disbursement. In accordance with the regulations at 34 CFR 668.164, we consider that Federal Pell Grant funds are disbursed on the earlier of the date that the institution: (a) Credits those funds to a student's account in the institution's general ledger or any subledger of the general ledger, or (b) pays those funds to a student directly. We consider that Federal Pell Grant funds are disbursed even if an institution uses its own funds in advance of receiving program funds from the Department. An institution's failure to submit disbursement records within the required 30-day timeframe may result in an audit or program review finding. In addition, the Secretary may initiate an adverse action, such as a fine or other penalty for such failure.

Other Sources for Detailed Information

We publish a detailed discussion of the Federal student aid application process in the following publications:

• 2004-2005 Student Guide.

• Funding Your Education.

• 2004-2005 High School Counselor's Handbook.

• A Guide to 2004-2005 SARs and ISIRs.

• 2004-2005 Federal Student Aid Handbook.

Additional information on the institutional reporting requirements for the Federal Pell Grant Program is contained in the 2004-2005 Common Origination and Disbursement (COD) Technical Reference, which is available at the Information for Financial Aid Professionals Web site at: http://www.ifap.ed.gov.

Applicable Regulations: The following regulations apply: (1) Student Assistance General Provisions, 34 CFR part 668 and (2) Federal Pell Grant Program, 34 CFR part 690.

FOR FURTHER INFORMATION CONTACT: Harold McCullough, U.S. Department of Education, Federal Student Aid, 830 First Street, NE., Union Center Plaza, room 113E1, Washington, DC 20202-5345. Telephone: (202) 377-4030.

If you use a telecommunications device for the deaf (TDD), you may call the Federal Information Relay Service (FIRS) at 1-800-877-8339.

Individuals with disabilities may obtain this document in an alternative format (e.g., Braille, large print, audiotape, or computer diskette) on request to the program contact person listed under FOR FURTHER INFORMATION CONTACT.

Electronic Access to This Document

You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

You may also view this document in PDF at the following site: http://www.ifap.ed.gov.

Note: The official version of this document is the document published in the Federal Register. Free Internet access to the official edition of the Federal Register and the Code of Federal Regulations is available on GPO Access at: http://www.gpoaccess.gov/nara/index.html.

Program Authority: 20 U.S.C. 421-429, 1070a, 1070b-1070b-3, 1070c-1070c-4, 1071-1087-2, 1087a, and 1087aa-1087ii; 42 U.S.C. 2751-2756b.

Dated: April 7, 2005.
Theresa S. Shaw,
Chief Operating Officer, Federal Student Aid.

Table A.—Deadline Dates for Application Processing and Receipt of Student Aid Reports (SARs) or Institutional Student Information Records (ISIRs) by Institutions
Who submits? | What is submitted? | Where is it submitted? | What is the deadline date for receipt?
Student | Free Application for Federal Student Aid (FAFSA) on the Web or Renewal FAFSA on the Web | Electronically to the Department's Central Processing System (CPS) | June 30, 2005.¹
| Signature Page (if required) | To the address printed on the signature page | September 15, 2005.
Student through an Institution | An electronic original or Renewal FAFSA | Electronically to the Department's CPS | June 30, 2005.¹
Student | A paper original FAFSA or paper Renewal FAFSA | To the address printed on the FAFSA, Renewal FAFSA, or envelope provided with the form | June 30, 2005.
Student | Corrections on the Web with all required electronic signatures | Electronically to the Department's CPS | September 15, 2005.¹
Student | corrections on the Web needing paper signatures | Electronically to the Department's CPS | September 15, 2005.¹
| Paper signatures for Corrections on the Web | To the address printed on the signature | September 15, 2005.
Student through an Institution | Electronic corrections | Electronically to the Department's CPS | September 15, 2005.¹
Student | Paper corrections (including change of mailing and e-mail addresses or institutions) using a SAR | To the address printed on the SAR | September 15, 2005.
Student | Change of mailing and e-mail addresses, change of institutions, or requests for a duplicate SAR | To the Federal Student Aid Information Center by calling 1-800-433-3243 | September 15, 2005.
Student | SAR with an official expected family contribution (EFC) calculated by the Department's CPS (Pell Only) | To the institution | The earlier of: —the student's last date of enrollment; or
|  |  | —September 23, 2005.²
Student through CPS | ISIR with an official EFC calculated by the Department's CPS (Pell only) | To the institution from the Department's CPS | The earlier of: —the student's last date of enrollment; or
|  |  | —September 23, 2005.²
Student | Valid SAR (Pell only) | To the institution | Except for late disbursements under 34 CFR 668.164(g), the earlier of:
|  |  | —The student's last date of enrollment; or
|  |  | —September 23, 2005.²
|  |  | For late disbursements, the earlier of:
|  |  | —the timeframes provided in the regulations at 34 CFR 668.164(g)(4)(i); or
|  |  | —September 23, 2005.²
Student through CPS | Valid ISIR (Pell only) | To the institution from the Department's CPS | Except for late disbursements under 34 CFR 668.164(g), the earlier of:
|  |  | —the student's last date of enrollment; or
|  |  | —September 23, 2005.²
|  |  | For late disbursements, the earlier of:
|  |  | —the timeframes provided in the regulations at 34 CFR 668.164(g)(4)(i); or
|  |  | —September 23, 2005.²
Student | Verification documents | To the institution | The earlier of: ³
|  |  | —120 days after the student's last date of enrollment; or
|  |  | —September 23, 2005.
Student | Valid SAR after verification (for Pell only) | To the institution | The earlier of: ⁴ —120 days after the student's last date of enrollment; or
|  |  | —September 23, 2005.²
Student through the Department's CPS | Valid ISIR after verification (for Pell only) | To the institution from the Department's CPS | The earlier of: ⁴ 120 days after the student's last date of enrollment; or
|  |  | —September 23, 2005.²
¹ The deadline for electronic transactions is 11:59 p.m. (Central Time) on the deadline date. Transmissions must be completed and accepted by 12 midnight to meet the deadline. If transmissions are started before 12 midnight but are not completed until after 12 midnight, those transmissions will not meet the deadline. In addition, any transmission picked up on or just prior to the deadline date that is rejected may not be reprocessed because the deadline will have passed by the time the user gets the information notifying him/her of the rejection.
² The date the ISIR/SAR transaction was processed by CPS is considered to be the date the institution received the ISIR or SAR regardless of whether the institution has downloaded the ISIR from its SAIG mailbox.
³ Although the Secretary has set this deadline date for the submission of verification documents, if corrections are required, deadline dates for submission of paper or electronic corrections and, for a Federal Pell Grant, the submission of a valid SAR or valid ISIR to the institution must still be met. An institution may establish an earlier deadline for the submission of verification documents for purposes of the campus-based programs, the FFEL Program, and the Federal Direct Loan Program.
⁴ Students completing verification while no longer enrolled will be paid based on the higher of the two EFCs.

Table B.—Federal Pell Grant Program Submission Dates for Disbursement Information by Institutions
Who submits? | What is submitted? | Where is it submitted? | What is the earliest submission and deadline date for receipt?
Institutions | At least one acceptable disbursement record must be submitted for each Federal Pell Grant recipient at the institution | To the Common Origination and Disbursement (COD) System using either: —the COD Web site at: http://cod.ed.gov; or —the Student Aid Internet Gateway (SAIG) | Earliest Submission Dates: An institution may submit disbursement information as early as June 21, 2004, but no earlier than: (a) 30 calendar days prior to the disbursement date under the advance payment method: (b) 7 calendar days prior to the disbursement date under the Just-in-Time or Cash Monitoring #1 payment methods; or
|  |  | (c) the date of disbursement under the Reimbursement or Cash Monitoring #2 payment methods.
|  |  | Deadline Submission Dates:
|  |  | Except as provided below, an institution is required to submit disbursement information no later than the earlier of:
|  |  | (a) 30 calendar days after the institution makes a disbursement or becomes aware of the need to make an adjustment to previously reported disbursement data; or
|  |  | (b) September 30, 2005.¹
|  |  | An institution may submit disbursement information after September 30, 2005, only:
|  |  | (a) for a downward adjustment of a previously reported award;
|  |  | (b) based upon a program review or initial audit finding per 34 CFR 690.83;
|  |  | (c) for reporting a late disbursement under 34 CFR 668.164(g); or
|  |  | (d) for reporting disbursements previously blocked as a result of another institution failing to post a downward adjustment.
| Request for administrative relief based on a natural disaster or other unusual circumstances, or an administrative error made by the Department | By e-mail to: sfa.administrative.relief@ed.gov | The earlier of: —a date designated by the Secretary after consultation with the institution; or —January 30, 2006.
| Request for administrative relief for a student ² who reenters the institution (1) within 180 days after initially withdrawing and (2) after September 15, 2005 | By e-mail to: sfa.administrative.relief@ed.gov | The earlier of: —30 days after the student reenrolls; or —May 1, 2006.
¹ The deadline for electronic transactions is 11:59 p.m. on September 30, 2005. Transmissions must be completed and accepted by 12 midnight to meet the deadline. If transmissions are started before 12 midnight but are not completed until after 12 midnight, those transmissions will not meet the deadline. In addition, any transmission picked up on or just prior to the deadline date that is rejected may not be reprocessed because the deadline will have passed by the time the user gets the information notifying him/her of the rejection.
² Applies only to students enrolled in clock-hour and nonterm credit-hour educational programs.
Note: The COD System must accept origination data for a student from an institution before it accepts disbursement information from the institution for that student. Institutions may submit origination and disbursement data for a student in the same transmission. However, if the origination data is rejected, the disbursement data is rejected.

[FR Doc. 05-7438 Filed 4-12-05; 8:45 am]

BILLING CODE 4000-01-P